DEPARTMENT OF TRANSPORTATION

Office of the Secretary

Aviation Proceedings, Agreements Filed the Week Ending July 30, 2004

The following Agreements were filed with the Department of Transportation under the provisions of 49 U.S.C. sections 412 and 414. Answers may be filed within 21 days after the filing of the application.

Docket Number: OST-2004-18732.

Date Filed: July 26, 2004.

Parties: Members of the International Air Transport Association.

Subject: PTC12 USA-EUR Fares 0091 dated 27 July 2004. Resolution 015h—USA Add-ons between USA and UK. Intended effective date: 1 October 2004.

Docket Number: OST-2004-18762.

Date Filed: July 29, 2004.

Parties: Members of the International Air Transport Association.

Subject: PTC COMP 1165 dated 30 July 2004. Composite Expedited Resolutions 024d and 024e r1-r2. Intended effective date: 1 September 2004.

Docket Number: OST-2004-18763.

Date Filed: July 29, 2004.

Parties: Members of the International Air Transport Association.

Subject: PTC COMP 1166 dated 30 July 2004. Composite Expedited Resolution 002tt r4. Intended effective date: 1 November 2004.

Docket Number: OST-2004-18767.

Date Filed: July 30, 2004.

Parties: Members of the International Air Transport Association.

Subject: PTC2 EUR 0576 dated 30 July 2004. Mail Vote 399—Resolution 010q. TC2 Within Europe, Europe-Africa, Europe-Middle East Special. Passenger Amending Resolution from Algeria r1. Intended effective date: 15 August 2004.

Docket Number: OST-2004-18768.

Date Filed: July 30, 2004.

Parties: Members of the International Air Transport Association.

Subject: PTC2 EUR-AFR 0207 dated 30 July 2004. Mail Vote 399—Resolution 010q. TC2 Within Europe, Europe-Africa, Europe-Middle East Special. Passenger Amending Resolution from Algeria r1. Intended effective date 15 August 2004.

Docket Number: OST-2004-18769.

Date Filed: July 30, 2004.

Parties: Members of the International Air Transport Association.

Subject: PTC2 EUR-ME 0190 dated 30 July 2004. Mail Vote 399—Resolution 010q. TC2 Within Europe, Europe-Africa, Europe-Middle East Special. Passenger Amending Resolution from Algeria r1. Intended effective date: 15 August 2004.

Andrea M. Jenkins,
Program Manager, Docket Operations, Federal Register Liaison.

[FR Doc. 04-18484 Filed 8-11-04; 8:45 am]

BILLING CODE 4910-62-P